DEPARTMENT OF THE INTERIOR

Bureau of Land Management

[LLNVB00000.LF31020NW.JQ0000.LF.HF.JF500000; MO:4500008784; 10-08807; TAS:14X1125]

Notice of Intent To Prepare an Environmental Impact Statement for the Proposed 3-Bars Ecosystem and Landscape Restoration Project, Eureka County, NV

AGENCY: Bureau of Land Management, Interior.

ACTION: Notice of intent.

SUMMARY: In compliance with the National Environmental Policy Act of 1969 (NEPA), as amended, and the Federal Land Policy and Management Act of 1976 (FLPMA), as amended, the Bureau of Land Management (BLM), Battle Mountain District, Mount Lewis Field Office, Battle Mountain, Nevada, intends to prepare an Environmental Impact Statement (EIS) and by this notice is announcing the beginning of the scoping process to solicit public comments and identify issues.

DATES: This notice initiates the public scoping process for the EIS. Comments on issues may be submitted in writing until February 24, 2010. The date(s) and location(s) of any scoping meetings will be announced at least 15 days in advance through local new media, newspapers and the BLM Web site at: http://www.blm.gov/nv/st/en/fo/battle_mountain_field.html. In order to be considered as part of the Draft EIS, all comments must be received prior to the close of the scoping period or 15 days after the last public meeting, whichever is later. The BLM will provide additional opportunities for public participation upon publication of the Draft EIS.

ADDRESSES: You may submit comments on issues related to the proposed 3-Bars Ecosystem and Landscape Restoration Project by the following methods:

• E-mail: 3bars_project@blm.gov.

• Fax: (775) 635-4034, Attention: 3-Bars Project Manager.

• Mail: BLM, Mount Lewis Field Office, Attn: 3-Bars Project Manager, 50 Bastian Road, Battle Mountain, NV 89820.

Documents pertinent to this project may be examined at the Mount Lewis Field Office.

FOR FURTHER INFORMATION CONTACT: For further information and/or to have your name added to the mailing list, contact Donovan Walker, (775) 635-4000, or e-mail: 3bars_project@blm.gov.

SUPPLEMENTARY INFORMATION: The BLM is proposing to conduct the 3-Bars Ecosystem and Landscape Restoration Project located primarily on public lands and on non-Federal lands where partnerships exist in Eureka County, Nevada. The project area encompasses approximately 724,000 acres. Individual areas ranging from several acres to several thousand acres will be treated with a variety of methods including mechanical, fire, biological, chemical and physical, depending on specific project and resource management goals and desired outcomes. The project will be conducted in conformance with the Shoshone-Eureka Resource Management Plan (RMP) and Record of Decision approved February 26, 1986, and its subsequent amendments.

The purpose of the public scoping process is to determine relevant issues that will influence the scope of the environmental analysis, including alternatives, and guide the process for developing the EIS. At present, the BLM has identified the following preliminary issues:

• Multiple key habitats within the sagebrush-steppe are declining and in need of restoration, maintenance or protection.

• Key species in multiple vegetative communities are declining as species diversity declines with ecological succession.

• Pinyon and juniper species are encroaching in native habitats and are expanding into adjacent, non-native habitats causing a net loss of important wildlife habitat and fragmentation.

• Greater than 70 percent of key wildlife habitats such as sage grouse, mule deer and Lahontan cutthroat trout (LCT) habitat are at a high, very high or extreme risk of catastrophic fire.

• Excessive fuel loadings are contributing to catastrophic fire potential. Hazardous fuel situations are caused by continuous closed canopy stands and excessive ladder fuels.

• Greater than 75 percent of riparian/wetland areas are not considered to be in Proper Functioning Condition.

• Less than optimal habitat conditions exist for LCT, a Federally listed “threatened” species currently occupying two streams.

• The project area has an active yearly fire occurrence and has had significant catastrophic fires in the recent past. Rehabilitation efforts have been less than fully successful as evidenced by cheatgrass monocultures in some wildfire scars.

• Range conditions have degraded and native plant communities have deteriorated as a result of past livestock management practices such as “hot-season” grazing or uneven livestock and wild horse distribution due to the lack of available water.

• Wild horse populations exceed appropriate management levels. The wild horses have poor body conditions as a result of excess numbers of wild horses in areas with degraded range conditions, limited water sources and restricted distribution. Permanent and temporary fences throughout two herd management areas hinder the free roaming abilities of wild horses.

• Permitted activities such as livestock grazing, mining and exploration and recreational off-highway vehicle use contribute to habitat decline in the absence of active management, maintenance and restorative activities.

• The distribution and abundance of traditional/edible, medicinal plants is declining. There is a continued decrease in pinion tree vigor and pine nut production as stand densities increase.

• The unresolved eligibility status and ongoing degradation of the National Historic Pony Express Trail which bisects the 3-Bars Project Area, needs to be considered and mitigated appropriately in the EIS. These and other areas of prehistoric and historic use have not been fully recorded or analyzed within the project area.

The BLM will use the NEPA commenting process to satisfy the public involvement requirements for Section 106 of the National Historic Preservation Act (16 U.S.C. 470f) as provided for in 36 CFR 800.2(d)(3). Native American Tribal consultations will be conducted in accordance with policy, and Tribal concerns will be given due consideration. Federal, State, and local agencies, as well as individuals, organizations or tribes that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Douglas W. Furtado,
Field Manager, Mount Lewis Field Office.

[FR Doc. 2010-1335 Filed 1-22-10; 8:45 am]

BILLING CODE 4310-HC-P